DEPARTMENT OF AGRICULTURE

Food Safety and Inspection Service

[Docket No. 00-042N]

HACCP-Based Inspection Models Project (HIMP): Performance Standards for Young Turkey, Young Chicken, and Market Hog HIMP Plants

AGENCY: Food Safety and Inspection Service, USDA.

ACTION: Notice.

SUMMARY: The Food Safety and Inspection Service (FSIS) is publishing the performance standards for food safety and non-food safety conditions that it will apply in a limited number of young turkey and market hog slaughter plants that participate in the HACCP-based Inspection Models Project (HIMP). FSIS has already announced the performance standards for young chicken HIMP plants at public meetings, but the Agency is including them in this Notice.

DATES: There is no formal comment period for this Notice; however, comments are welcome.

ADDRESSES: Submit one original and two copies of written comments to FSIS Docket Clerk, Docket #00-042N, U.S. Department of Agriculture, Food Safety and Inspection Service, Room 102 Cotton Annex Building, 300 12th Street, SW., Washington, DC 20250-3700. All comments submitted in response to this Notice will be available for public inspection in the Docket Clerk's Office between 8:30 a.m. and 4:30 p.m., Monday through Friday.

FOR FURTHER INFORMATION CONTACT: Mr. Michael Grasso, Project Manager, FSIS, at 202 205-0025, FAX 202 205-0058, e-mail Mike.Grasso@usda.gov.

SUPPLEMENTARY INFORMATION: FSIS began HIMP in 1998 to determine whether new government slaughter inspection procedures, along with new plant responsibilities, can improve food safety and increase consumer protection. The pilot project is a natural extension of the Agency's Hazard Analysis and Critical Control Points (HACCP) approach in place nationwide within all meat and poultry plants. The Agency adopted the HACCP approach in its Pathogen Reduction; Hazard Analysis and Critical Control Point (HACCP) Systems; Final Rule of July 25, 1996 (61 FR 38806).

The project represents the Agency's effort to apply HACCP principles with respect to industry and FSIS roles and responsibilities in slaughter operations, which should allow FSIS to better focus its in-plant resources and regulatory verification activities on public health concerns. HIMP does not involve processing plants.

Under HIMP, FSIS has developed new inspection models for pilot testing in a limited number of plants slaughtering young, healthy, and uniform animals, specifically young poultry, fed cattle, and market hogs. With these models, FSIS designs HACCP-based slaughter inspection procedures, and plants develop appropriate controls for meeting FSIS requirements.

Through an independent contractor, the Agency conducted baseline sampling in volunteer plants that slaughter young chickens, young turkeys, and market hogs. The baseline sampling results reflect the accomplishments of current slaughter-line inspection procedures in the pilot plants and provide a measure—a “performance standard”—for judging the accomplishments of these same plants operating under new HIMP procedures. The performance standards address both food safety and non-food safety conditions. The food safety performance standards for young turkeys and market hogs are set at zero to protect consumers from conditions that may be harmful. As stated above, the performance standards for non-food safety conditions—collectively termed “other consumer protection” or OCP—reflect the baseline data collected by the independent contractor in participating plants before the new models were instituted. These baseline data thus represent the accomplishments of the current inspection system.

For OCP concerns, 2000 samples were collected by the independent contractor at each of five young turkey and five market hog plants over five weeks and evaluated organoleptically—by the senses. As with young chickens, the new OCP performance standards have been set at the level that the top 75 percent of the plants and our inspectors achieved for each category of defects. For young turkeys and market hogs, with five plants each, the 75th percentile was set slightly below the 4th of the five baseline results, using the formula: 75th percentile = (.25 * 3rd place values) + (.75 * 4th place values).

Participating plants must meet these tighter performance standards for food safety and non-food safety concerns. Plants are expected to revise their HACCP systems to achieve the food safety standards and to develop process control plans to achieve OCP standards. Plants are responsible for identifying and removing carcasses that do not meet these standards for reprocessing or condemnation, as appropriate. FSIS inspectors are responsible for inspection and for verifying that plants are continuously achieving the required outcomes.

Microbial sampling was also conducted by the independent contractor: 600 carcasses were sampled at each plant, 300 for Salmonella and 300 for generic E. coli. Levels of these organisms are evaluated according to the performance standards and criteria set forth in the Agency's Pathogen Reduction/HACCP Final Rule mentioned above.

FSIS conducts continuous inspection in HIMP plants to make a critical appraisal of carcasses to determine that they are not adulterated as defined under FSIS regulations and are thus eligible to receive the mark of inspection.

Young Turkey HIMP Performance Standards Based on Current Inspection System
Food Safety 1 Condition—Infectious (e.g., septicemia, toxemia) | Zero*
Food Safety 2 Contamination—Digestive Content (fecal material) | Zero**
OCP 1 Condition—Animal Diseases (e.g., airsacculitis, arthritis, ascites, cadaver, enteritis, erysipelas, generalized inflammatory process, neoplasms, nephritis, osteomyelitis, pericarditis, pneumonia, tenosynovitis) | 1.2%
OCP 2 Condition—Miscellaneous (e.g., breast blister, bruises, external mutilation, fractures, overscald, sores, scabs, and localized inflammatory process) | 56.6%
OCP 3 Contamination—Digestive Content (e.g., ingesta) | 12.7%
OCP 4 Dressing Defects—Other (e.g., extraneous material-other, feathers, lung, oil gland, trachea, bile) | 95.9%
OCP 5 Dressing Defects—Digestive Tract Tissue (e.g., bursa of fabricius, cloaca, crop, esophagus, intestine) | 7.5%
* Baseline result was 0.0% at 75th percentile.
** Baseline result was 0.3% at 75th percentile.

Market Hogs HIMP Performance Standards Based on Current Inspection System
Food Safety 1 Condition-Infectious (e.g., septicemia/toxemia, pyemia, Cysticercus) | Zero *
Food Safety 2 Contamination-Digestive Content (e.g., fecal material, ingesta, milk) | Zero **
Food Safety 3 Ante-mortem suspect (e.g., neurologic conditions, moribund, pyrexic, severe lameness) | Zero
OCP 1 Carcass-Pathology (e.g., arthritis, emaciation, erysipelas, localized abscess, mastitis, metritis, mycobacteriosis [M. Avium], neoplasms, pericarditis, pleuritis, pneumonia, uremia) | 4.1%
OCP 2 Condition-Visceral Pathology * (e.g., cystic kidneys, enteritis/gastritis, fecal contamination of viscera, nephritis/pyelonephritis, parasites-other than Cysticercus, peritonitis) | 7.2%
OCP 3 Miscellaneous (e.g., anemia/Pale Soft Exudative pork, bile, bruise, edema, external mutilation, fractures, icterus, odor, skin lesions, scabs, untrimmed hair, toenails not removed) | 20.5%
* Baseline result was 0.0% at 75th percentile.
** Baseline result was 2.6% at 75th percentile.

Young Chicken HIMP Performance Standards Based on Current Inspection System
Food Safety 1 Condition-Infectious (e.g., septicemia, toxemia) | Zero *
Food Safety 2 Contamination-Digestive Content (e.g., fecal material) | Zero **
OCP 1 Condition-Animal Diseases (e.g., airsacculitis) | 1.7%
OCP 2 Condition-Miscellaneous (e.g., bruises, sores, and other processing defects) | 52.5%
OCP 3 Contamination-Digestive Content (e.g., ingesta) | 18.6%
OCP 4 Dressing Defects-Other (e.g., feathers) | 80.0%
OCP 5 Dressing Defects (e.g., digestive tract tissue) | 20.8%
* Baseline result was 0.1% at 75th percentile.
** Baseline result was 1.5% at 75th percentile.

Additional Public Notification

Public awareness of all segments of rulemaking and policy development is important. Consequently, in an effort to better ensure that minorities, women, and persons with disabilities are aware of this notice, FSIS will announce it and provide copies of this Federal Register publication in the FSIS Constituent Update. FSIS provides a weekly FSIS Constituent Update, which is communicated via fax to more than 300 organizations and individuals. In addition, the update is available on-line through the FSIS web page located at http://www.fsis.usda.gov. The update is used to provide information regarding FSIS policies, procedures, regulations, Federal Register notices, FSIS public meetings, recalls, and any other types of information that could affect or would be of interest to Agency constituents or stakeholders. The constituent fax list consists of industry, trade, and farm groups, consumer interest groups, allied health professionals, scientific professionals, and other individuals who have requested to be included. Through these various channels, FSIS is able to provide information to a much broader, more diverse audience.

For more information and to be added to the constituent fax list, fax your request to the Congressional and Public Affairs Office, at 202 720-5704.

Done in Washington, DC, on October 25, 2000.
Thomas J. Billy,
Administrator.

[FR Doc. 00-28147 Filed 11-1-00; 8:45 am]

BILLING CODE 3410-DM-P